DEPARTMENT OF ENERGY

Federal Energy Regulatory Commission

Combined Notice of Filings

Take notice that the Commission has received the following Natural Gas Pipeline Rate and Refund Report filings:

Filings Instituting Proceedings

Docket Number: PR19-70-000.

Applicants: Columbia Gas of Ohio, Inc.

Description: Tariff filing per 284.123(b),(e)/: COH Rates effective July 31 2019 to be effective 7/31/2019.

Filed Date: 8/7/19.

Accession Number: 201908075109.

Comments/Protests Due: 5 p.m. ET 8/28/19.

Docket Numbers: CP19-496-000.

Applicants: Transcontinental Gas Pipe Line Company, LLC.

Description: Abbreviated Application for the Abandonment of Service under Rate Schedule X-234 of Transcontinental Gas Pipe Line Company, LLC under CP19-496.

Filed Date: 8/2/19.

Accession Number: 20190802-5187.

Comments Due: 5 p.m. ET 8/23/19.

Docket Numbers: RP19-1060-001.

Applicants: WBI Energy Transmission, Inc.

Description: Compliance filing 2019 Compliance Filing on 7-29-19 Order on Filings in with Order No. 587-Y to be effective 8/1/2019.

Filed Date: 8/6/19.

Accession Number: 20190806-5118.

Comments Due: 5 p.m. ET 8/19/19

Docket Numbers: RP19-1457-000.

Applicants: Iroquois Gas Transmission System, L.P.

Description: § 4(d) Rate Filing: 080619 Negotiated Rates—Spotlight Energy, LLC R-7725-05 to be effective 10/1/2019.

Filed Date: 8/6/19.

Accession Number: 20190806-5033.

Comments Due: 5 p.m. ET 8/19/19.

Docket Numbers: RP19-1458-000.

Applicants: Iroquois Gas Transmission System, L.P.

Description: § 4(d) Rate Filing: 080619 Negotiated Rates—Castleton Commodities Merchant Trading L.P. R-4010-18 to be effective 10/1/2019

Filed Date: 8/6/19.

Accession Number: 20190806-5034.

Comments Due: 5 p.m. ET 8/19/19.

Docket Numbers: RP19-1459-000.

Applicants: Iroquois Gas Transmission System, L.P.

Description: § 4(d) Rate Filing: 080619 Negotiated Rates—Castleton Commodities Merchant Trading L.P. R-4010-19 to be effective 10/1/2019.

Filed Date: 8/6/19.

Accession Number: 20190806-5035.

Comments Due: 5 p.m. ET 8/19/19.

Docket Numbers: RP19-1088-001.

Applicants: Enable Gas Transmission, LLC.

Description: Compliance filing NAESB 3.1 Compliance Filing to be effective 8/1/2019.

Filed Date: 8/7/19.

Accession Number: 20190807-5104.

Comments Due: 5 p.m. ET 8/19/19.

Docket Numbers: RP19-1095-001.

Applicants: Enable Mississippi River Transmission, LLC.

Description: Compliance filing MRT—NAESB 3.1 Complianec Filing to be effective 8/1/2019.

Filed Date: 8/7/19.

Accession Number: 20190807-5106.

Comments Due: 5 p.m. ET 8/19/19.

Docket Numbers: RP19-1460-000.

Applicants: WBI Energy Transmission, Inc.

Description: § 4(d) Rate Filing: 2019 Non Conforming and Negotiated SA's FT-1517 and IT-838 to be effective 9/13/2019.

Filed Date: 8/7/19.

Accession Number: 20190807-5027.

Comments Due: 5 p.m. ET 8/19/19.

Docket Numbers: RP19-1461-000.

Applicants: Anadarko Energy Services Company, Pacific Summit Energy LLC.

Description: Joint Petition for Temporary Waiver of Commission Policies, Capacity Release Regulations and Policies, et al. of Anadarko Energy Services Company, et al. under RP19-1461.

Filed Date: 8/7/19.

Accession Number: 20190807-5030.

Comments Due: 5 p.m. ET 8/19/19.

Docket Numbers: RP19-1462-000.

Applicants: Anadarko Energy Services Company,Sequent Energy Management, L.P.

Description: Joint Petition for Temporary Waiver of Commission Policies, Capacity Release Regulations and Policies, et al. of Anadarko Energy Services Company, et al. under RP19-1462.

Filed Date: 8/7/19.

Accession Number: 20190807-5031.

Comments Due: 5 p.m. ET 8/19/19.

Docket Numbers: RP19-915-001.

Applicants: SG Resources Mississippi, L.L.C.

Description: Compliance filing SG Resources Mississippi, L.L.C.—Order No. 587-Y Compliance, Directed Changes to be effective 8/1/2019.

Filed Date: 8/7/19.

Accession Number: 20190807-5028.

Comments Due: 5 p.m. ET 8/19/19.

Docket Numbers: RP19-917-001.

Applicants: Pine Prairie Energy Center, LLC.

Description: Compliance filing Pine Prairie Energy Center, LLC—Order No. 587-Y Compliance, Directed Changes to be effective 8/1/2019.

Filed Date: 8/7/19.

Accession Number: 20190807-5026.

Comments Due: 5 p.m. ET 8/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2019.
Kimberly D. Bose,
Secretary.

[FR Doc. 2019-17394 Filed 8-13-19; 8:45 am]

BILLING CODE 6717-01-P